DEPARTMENT OF STATE

[Public Notice 6815]

Notice of Information Collection Under Emergency Review: Forms DS-2053, DS-2054; Medical Examination for Immigrant or Refugee Applicant; DS-3030, Chest X-Ray and Classification Worksheet; OMB Control Number 1405-0113

AGENCY: Department of State.

ACTION: Notice of request for emergency OMB approval.

SUMMARY: The Department of State has submitted the following information collection request to the Office of Management and Budget (OMB) for review and approval in accordance with the emergency review procedures of the Paperwork Reduction Act of 1995.

• Title of Information Collection: Medical Examination for Immigrant or Refugee Applicant.

• OMB Control Number: 1405-0113.

• Type of Request: Emergency Review.

• Originating Office: Bureau of Consular Affairs, Office of Visa Services (CA/VO)

• Form Number: DS-2053, DS-2054, DS-3030.

• Respondents: Immigrant visa and refugee applicants.

• Estimated Number of Respondents: 630,000 per year.

• Estimated Number of Responses: 630,000 per year.

• Average Hours Per Response: 1 hour.

• Total Estimated Burden: 630,000 hours annually.

• Frequency: Once per application.

• Obligation To Respond: Required to Obtain Benefit.

The proposed information collection is published to obtain comments from the public and affected agencies. Emergency review and approval of this collection has been requested from OMB by January 4, 2010. If granted, the emergency approval is only valid for 180 days. Direct comments to the Department of State Desk Officer in the Office of Information and Regulatory Affairs at the Office of Management and Budget (OMB).

You may submit comments by the following methods:

• E-mail: oira_submission@omb.eop.gov. You must include the DS form number, information collection title, and OMB control number in the subject line of your message.

• Fax: 202-395-5806. Attention: Desk Officer for Department of State.

During the first 60 days of the emergency approval period, a regular review of this information collection is also being undertaken. The submitting agency requests written comments and suggestions from the public and affected agencies concerning the proposed collection of information. Comments will be accepted until 60 days from the date that this notice is published in the Federal Register.

You may submit comments by any of the following methods:

• E-mail: VisaRegs@state.gov (Subject line must read OMB 1405-0113 Reauthorization).

• Mail (paper, disk, or CD-ROM submissions): Chief, Legislation and Regulations Division, Visa Services—OMB 1405-0113 Reauthorization, 2401 E Street, NW., Washington, DC 20520-30106.

• Fax: (202) 663-3898.

You must include the DS form number (if applicable), information collection title, and OMB control number in any correspondence.

FOR FURTHER INFORMATION CONTACT: Direct requests for additional information regarding the collection listed in this notice, including requests for copies of the proposed information collection and supporting documents, to Lauren Prosnik of the Office of Visa Services, U.S. Department of State, 2401 E Street, NW., L-603, Washington, DC 20522, who may be reached at (202) 663-2951.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

INA Section 221(d) requires that prior to the issuance of an immigrant visa the applicant undergo a physical and mental examination. INA Section 412(b)(4)(B) requires that the United States Government “provide for the identification of refugees who have been determined to have medical conditions affecting the public health and requiring treatment.” Form DS-2053, Medical Examination for Immigrant or Refugee Applicant (1991 Technical Instructions); Form DS-2054, Medical Examination for Immigrant or Refugee Applicant (2007 Technical Instructions); and DS-3030, Chest X-Ray and Classification Worksheet (2007 Technical Instructions) are designed to record the results of the medical examination. A panel physician performs the medical examination of the applicant and completes the forms.

A final rule was published by the Department of Health and Human Services (HHS) in the Federal Register on November 2, 2009 that amends HHS regulations to remove the Human Immunodeficiency Virus (HIV) from the definition of communicable disease of public health significance and to remove references to HIV from medical examinations for aliens. In order to comply with this rule, effective January 4, 2010, an emergency approval review has been requested from OMB.

The Department must make available to panel physicians conducting medical exams for visa applicants revised medical exam forms. Forms DS-2053, DS-2054 and DS-3030 are being revised to remove references to HIV.

Methodology:

The medical forms are sent to the applicant in the applicant's package. The applicant takes the forms to the panel physician to use during the medical examination. The panel physician completes the medical examination and fills out the forms. The forms are then submitted in hard copy to the consular officer for processing.

November 16, 2009.
Edward Ramotowksi,
Acting Deputy Assistant Secretary, Bureau of Consular Affairs, Department of State.

[FR Doc. E9-27967 Filed 11-19-09; 8:45 am]

BILLING CODE 4710-06-P